DEPARTMENT OF THE INTERIOR

National Park Service

[NPS-WASO-NAGPRA-17621; PPWOCRADN0-PCU00RP14.R50000]

Notice of Intent To Repatriate Cultural Items: U.S. Department of the Interior, National Park Service, Gulf Islands National Seashore, Gulf Breeze, FL

AGENCY: National Park Service, Interior.

ACTION: Notice.

SUMMARY: The U.S. Department of the Interior, National Park Service, Gulf Islands National Seashore, in consultation with the appropriate Indian tribes or Native Hawaiian organizations, has determined that the cultural items listed in this notice meet the definition of unassociated funerary objects. Lineal descendants or representatives of any Indian tribe or Native Hawaiian organization not identified in this notice that wish to claim these cultural items should submit a written request to Gulf Islands National Seashore. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Gulf Islands National Seashore at the address in this notice by May 1, 2015.

ADDRESSES: Daniel R. Brown, Gulf Islands National Seashore, 1801 Gulf Breeze Parkway, Gulf Breeze, FL 32563, telephone (850) 934-2600, email daniel_r_brown@nps.gov.

SUPPLEMENTARY INFORMATION: Notice is here given in accordance with the Native American Graves Protection and Repatriation Act (NAGPRA), 25 U.S.C. 3005, of the intent to repatriate cultural items under the control of the U.S. Department of the Interior, National Park Service, Gulf Islands National Seashore, Gulf Breeze, FL that meet the definition of unassociated funerary objects under 25 U.S.C. 3001.

This notice is published as part of the National Park Service's administrative responsibilities under NAGPRA, 25 U.S.C. 3003(d)(3). The determinations in this notice are the sole responsibility of the Superintendent, Gulf Islands National Seashore.

History and Description of the Cultural Items

Between 1964 and 1965, three cultural items were removed from Naval Live Oaks Reservation in Santa Rosa County, FL. These cultural items were associated with three burials. According to the excavation report one set of remains was re-interred. Given the reported conditions of the remains in the other two burials, it is likely that they were left in-situ or re-interred, but neither can be confirmed. At the time of the excavation, the Naval Live Oaks Reservation Cemetery was under the jurisdiction of the State of Florida. In 1971, the site became part of Gulf Islands National Seashore. The objects appear to have been curated at the Fort Walton Temple Mound Museum until 1981, when they were donated to Gulf Islands National Seashore by curator Yulee Lazarus. The objects are currently curated at the National Park Service's Southeast Archeological Center. The three unassociated funerary objects are one pig bone, one iron fragment, and one shell fragment.

Analysis of ceramic vessel fragments indicates that the Naval Live Oaks Reservation Cemetery site was in use during the Bear Point phase of the Pensacola period (A.D. 1500 to 1700). Historical documentation places the Pensacola Indians in the area of the Naval Live Oak Reservation Cemetery site during that time period. The Pensacola culture extended along the western Gulf coast of Florida, but also shared ceramic styles with groups in Alabama, Louisiana, and Mississippi. Conflict in the 18th century displaced the Pensacola people in Florida, and historical evidence indicates that some were assimilated into the Choctaw. Others were likely absorbed by the Creek Indians when they overtook the area. Pensacola people are also believed to have gone west with other area tribes to join the Tunica-Biloxi Indians. The Pensacola spoke a Muscogean language; other Muscogee language family speakers include the Alabama, Seminole, Miccosukee, and Coushatta.

Determinations Made by Gulf Islands National Seashore

Officials of Gulf Islands National Seashore have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Alabama-Coushatta Tribe of Texas (previously listed as the Alabama-Coushatta Tribes of Texas); Alabama-Quassarte Tribal Town; Coushatta Tribe of Louisiana; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Choctaw Nation of Oklahoma; The Muscogee (Creek) Nation; The Seminole Nation of Oklahoma; Thlopthlocco Tribal Town; and Tunica-Biloxi Indian Tribe.

Additional Requestors and Disposition

Lineal descendants or representatives of any Indian tribe or Native Hawaiian organization not identified in this notice that wish to claim these cultural items should submit a written request with information in support of the claim to Daniel R. Brown, Gulf Islands National Seashore, 1801 Gulf Breeze Parkway, Gulf Breeze, FL 32563, telephone (850) 934-2600, email daniel_r_brown@nps.gov, by May 1, 2015. After that date, if no additional claimants have come forward, transfer of control of the unassociated funerary objects to the Alabama-Coushatta Tribe of Texas (previously listed as the Alabama-Coushatta Tribes of Texas); Alabama-Quassarte Tribal Town; Coushatta Tribe of Louisiana; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Choctaw Nation of Oklahoma; The Muscogee (Creek) Nation; The Seminole Nation of Oklahoma; Thlopthlocco Tribal Town; and Tunica-Biloxi Indian Tribe may proceed.

The Gulf Islands National Seashore is responsible for notifying the Alabama-Coushatta Tribe of Texas (previously listed as the Alabama-Coushatta Tribes of Texas); Alabama-Quassarte Tribal Town; Coushatta Tribe of Louisiana; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Choctaw Nation of Oklahoma; The Muscogee (Creek) Nation; The Seminole Nation of Oklahoma; Thlopthlocco Tribal Town; and Tunica-Biloxi Indian Tribe that this notice has been published.

Dated: February 17, 2015.
Melanie O'Brien,
Acting Manager, National NAGPRA Program.

[FR Doc. 2015-07413 Filed 3-31-15; 8:45 am]

BILLING CODE 4310-50-P